PEACE CORPS

Proposed Information Collection Requests

AGENCY: Peace Corps.

ACTION: Notice of public use form review request to the Office of Management and Budget (OMB Control Number 0420-0533).

SUMMARY: Pursuant to the Paperwork Reduction Act of 1981 (44 U.S.C. Chapter 35), the Peace Corps has submitted to the Office of Management and Budget a request for approval of information collections, OMB Control Number 0420-0533, the Peace Corps Crisis Corps Volunteer Application Form. This is a renewal of an active information collection. The purpose of this information collection is necessary in order to identify prospective, interested, and available returned Peace Corps Volunteers who are completing their services for Crisis Corps Volunteer Service. The information is used to determine availability, suitability, and potential Crisis Corps placement applicants.

The purpose of this notice is to allow for public comment on whether the proposed collection of information is necessary for the proper performance of the functions of the Peace Corps, including whether their information will have practical use; the accuracy of the agency's estimate of the burden of the proposed collection of information, including the validity of the methodology and assumptions used; ways to enhance the quality, utility and the clarity of the information to be collected; and, ways to minimize the burden of the collection of information on those who are to respond, including through the use of automated collection techniques, when appropriate, and other forms of information technology. A copy of the information collection may be obtained from Ms. Mary Angelini, Director of the Crisis Corps, Peace Corps, 1111 20th Street, NW., Room 7305, Washington, DC 20526. Ms. Angelini can be contacted by telephone at 202-692-2250. Comments on the form should also be addressed to the attention of Ms. Angelini and should be received on or before July 5, 2007.

Information Collection Abstract

Title: Peace Corps' Crisis Corps Volunteer Application Form.

Need For and Use of This Information: The Peace Corps/Crisis Corps need this information in order to identify prospective, interested, and available returned Peace Corps Volunteers and Volunteers who are completing their services for Crisis Corps Volunteer service. The information is used to determine availability, suitability, and potential for Crisis Corps placement of applicants.

Respondents: Returned Peace Corps Volunteers (RPCVs) who have successfully completed their service and Volunteers currently completing their service who are interested in applying for Peace Corps/Crisis Corps service.

Respondent's Obligation To Reply: Voluntary, but required to obtain benefits.

Burden On The Public:

a. Annual reporting burden: 42 hours.

b. Annual recordkeeping burden: 0 hours.

c. Estimated average burden per response: 5 minutes.

d. Frequency of response: One time.

e. Estimated number of likely respondents: 507.

f. Estimated cost to respondents: $2.26.

Dated: May 23, 2007.
Wilbert Bryant,
Associate Director for Management.

[FR Doc. 07-2746 Filed 6-01-07; 8:45 am]

BILLING CODE 6051-01-M